DEPARTMENT OF STATE

[Public Notice: 9544]

Overseas Schools Advisory Council Notice of Meeting

The Department of State Overseas Schools Advisory Council will hold its next Executive Committee Meeting on Thursday, June 16, 2016, at 9:30 a.m. in Conference Room 1482, Marshall Center, Department of State Building, 2201 C Street NW., Washington, DC. The meeting is open to the public and will last until approximately 12:00 p.m.

The Overseas Schools Advisory Council works closely with the U.S. business community to improve American-sponsored schools overseas that are assisted by the Department of State and attended by dependents of U.S. government employees, and children of employees of U.S. corporations and foundations abroad.

This meeting will deal with issues related to the work and support provided by the Overseas Schools Advisory Council to American-sponsored overseas schools. There will be a report and discussion about the status of the Council-sponsored projects such as The World Virtual School and The Child Protection Project. The Regional Education Officers in the Office of Overseas Schools will make presentations on the activities and initiatives in American-sponsored overseas schools.

Members of the public may attend the meeting and join in the discussion, subject to the instructions of the Chair. Admittance of public members will be limited to the seating available. Access to the State Department is controlled, and individual building passes are required for all attendees. Persons who plan to attend should advise the office of Dr. Keith D. Miller, Department of State, Office of Overseas Schools, telephone 202-261-8200, prior to June 9, 2016. Each visitor will be asked to provide his/her date of birth and either a driver's license or passport number at the time of registration and attendance, and must bring a valid photo ID to the meeting.

Personal data is requested pursuant to Public Law 99-399 (Omnibus Diplomatic Security and Antiterrorism Act of 1986), as amended; Public Law 107-56 (USA PATRIOT Act); and E.O. 13356. The purpose of the collection is to validate the identity of individuals who enter Department facilities. The data will be entered into the Visitor Access Control System (VACS-D) database. Please see the Security Records System of Records Notice (State-36) at http://foia.state.gov/_docs/SORN/State-36.pdf for additional information.

Any requests for reasonable accommodation should be made at the time of registration. All such requests will be considered, however, it might not be possible to accommodate requests made after June 9, 2016. All attendees must use the C Street entrance to the building.

Keith D. Miller,
Executive Secretary, Overseas Schools Advisory Council.

[FR Doc. 2016-10475 Filed 5-3-16; 8:45 am]

BILLING CODE 4710-24-P